DEPARTMENT OF ENERGY

Federal Energy Regulatory Commission

Combined Notice of Filings

Take notice that the Commission has received the following Natural Gas Pipeline Rate and Refund Report filings:

Filings Instituting Proceedings

Docket Numbers: PR14-38-000.

Applicants: Columbia Gas of Maryland, Inc.

Description: Tariff filing per 284.123(b)(1)/.: Second Amended Application for Approval of Statement of Operating Conditions to be effective 10/9/2013; TOFC: 980.

Filed Date: 6/26/14.

Accession Number: 20140626-5049.

Comments Due: 5 p.m. ET 7/17/14.

284.123(g) Protests Due:

Docket Numbers: PR14-39-000.

Applicants: Rocky Mountain Natural Gas LLC.

Description: Tariff filing per 284.123(b)(1) +(g): Revised Statement of Operating Conditions to be effective 6/1/2014; TOFC: 1300.

Filed Date: 6/26/14.

Accession Number: 20140626-5104.

Comments Due: 5 p.m. ET 7/17/14.

284.123(g) Protests Due: 5 p.m. ET 8/25/14.

Docket Numbers: CP14-508-000.

Applicants: Southern Natural Gas Company.

Description: Abbreviated Application for Authorization to Abandonment Exchange and/or Transportation Agreements between Southern Natural Gas Company, L.L.C. and Gulf South Pipeline Company.

Filed Date: 6/27/14.

Accession Number: 20140627-5067.

Comments Due: 5 p.m. ET 7/18/14.

Docket Numbers: RP14-827-000.

Applicants: East Tennessee Natural Gas, LLC.

Description: Wacker Project In-service Notice.

Filed Date: 6/26/14.

Accession Number: 20140626-5076.

Comments Due: 5 p.m. ET 7/8/14.

Docket Numbers: RP14-1059-000.

Applicants: Alliance Pipeline L.P.

Description: July 1 31, 2014 Auction to be effective 7/1/2014.

Filed Date: 6/27/14.

Accession Number: 20140627-5093.

Comments Due: 5 p.m. ET 7/9/14.

Docket Numbers: RP14-1060-000.

Applicants: Kern River Gas Transmission Company.

Description: 2014 Capacity Release to be effective 8/1/2014.

Filed Date: 6/27/14.

Accession Number: 20140627-5105.

Comments Due: 5 p.m. ET 7/9/14.

Docket Numbers: RP14-1061-000.

Applicants: Trailblazer Pipeline Company LLC.

Description: Neg Rate 2014-06-27 Enserco to be effective 7/1/2014.

Filed Date: 6/27/14.

Accession Number: 20140627-5107.

Comments Due: 5 p.m. ET 7/9/14.

Docket Numbers: RP14-1062-000.

Applicants: Granite State Gas Transmission, Inc.

Description: Limited Section 4 Rate Change to be effective 8/1/2014.

Filed Date: 6/27/14.

Accession Number: 20140627-5111.

Comments Due: 5 p.m. ET 7/9/14.

Docket Numbers: RP14-1063-000.

Applicants: Algonquin Gas Transmission, LLC.

Description: Algonquin Gas Transmission, LLC submits tariff filing per 154.204: Negotiated Rate Release eff 7-1-14 to be effective 7/1/2014.

Filed Date: 6/27/14.

Accession Number: 20140627-5146.

Comments Due: 5 p.m. ET 7/9/14.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2014.
Nathaniel J. Davis, Sr.,
Deputy Secretary.

[FR Doc. 2014-15849 Filed 7-7-14; 8:45 am]

BILLING CODE 6717-01-P